DEPARTMENT OF THE INTERIOR

Fish and Wildlife Service

Draft Environmental Assessment/Habitat Conservation Plan and Receipt of an Application for an Incidental Take Permit for Elizabeth Cross Roads Property, Town of Elizabeth, Elbert County, CO

AGENCY: Fish and Wildlife Service, Interior.

ACTION: Notice of availability and receipt of application.

SUMMARY: This notice advises the public that Elizabeth Cross Roads LLC (Applicant) has applied to the U.S. Fish and Wildlife Service (Service) for an incidental take permit pursuant to section 10(a)(1)(B) of the Endangered Species Act (Act) of 1973, as amended. The proposed permit would authorize the incidental take of the Preble's meadow jumping mouse (Zapus hudsonius preblei) (Preble's), federally-listed as threatened, through loss and modification of its habitat associated with construction of the Elizabeth Cross Roads Business Park, a commercial development, and an associated utility line in Elizabeth, Elbert County, Colorado. The duration of the permit would be 10 years from the date of issuance.

We announce the receipt of the Applicant's incidental take permit application, which includes a combined Environmental Assessment/Habitat Conservation Plan (EA/HCP) for the Preble's for the Elizabeth Cross Roads Property. The proposed EA/HCP is available for public review and comment. It fully describes the proposed project and the measures the Applicant would undertake to minimize and mitigate project impacts to the Preble's.

The Service requests comments on the EA/HCP and associated documents for the proposed issuance of the incidental take permit. All comments on the EA and permit application will become part of the administrative record and will be available to the public. We provide this notice pursuant to section 10(a) of the Act and the National Environmental Policy Act regulations (40 CFR 1506.6).

DATES: Written comments on the permit application and EA/HCP should be received on or before February 17, 2004.

ADDRESSES: Comments regarding the permit application and EA/HCP should be addressed to Susan Linner, Field Supervisor, U.S. Fish and Wildlife Service, Colorado Field Office, 755 Parfet Street, Suite 361, Lakewood, Colorado 80215. Comments also may be submitted by facsimile to (303) 275-2371.

FOR FURTHER INFORMATION CONTACT: Ms. Kathleen Linder, Fish and Wildlife Biologist, Colorado Field Office, telephone (303) 275-2370.

SUPPLEMENTARY INFORMATION:

Document Availability

Individuals wishing copies of the EA/HCP and associated documents for review should immediately contact the above office. Documents also will be available for public inspection, by appointment, during normal business hours at the above address.

Background

Section 9 of the Act and Federal regulations prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

The Elizabeth Cross Roads Property is located at the northwest corner of Highway 86 and County Road 17, along Running Creek, in the Town of Elizabeth, Elbert County, Colorado. The project site is 8.1 hectares (20 acres), but the proposed project will directly impact a maximum of 1.7 hectares (4.2 acres) that may result in incidental take of the Preble's. Of the total amount of impacted acreage, 0.6 hectare (1.4 acres) will be temporarily disturbed and will be revegetated. An HCP has been developed as part of the preferred alternative. The proposed HCP will allow for the incidental take of the Preble's by permitting a commercial development and associated utilities to be constructed in an area that may be periodically used as foraging, breeding or hibernation habitat.

In addition to the Proposed Action, alternatives considered included—(a) Waiting for the Elbert County Regional HCP to be approved, (b) developing the site without avoidance of Preble's habitat, (c) developing the portion of the site that will have no impacts to Preble's habitat, and (d) no action. The draft EA analyzes the onsite, offsite, and cumulative impacts of the proposed project and all associated development and construction activities and mitigation activities on the Preble's, and also on other threatened or endangered species, vegetation, wildlife, wetlands, geology/soils, land use, water resources, air and water quality, and cultural resources. All of the proposed permanent impacts are in upland areas outside of the 100-year floodplain. The Applicant, using the Service's definition of Preble's habitat, has determined that the proposed project would impact approximately 1.7 hectares (4.2 acres) of potential Preble's habitat. The mitigation will likely provide a net benefit to the Preble's and other wildlife by planting of native shrubs and protecting existing habitat along Running Creek from any future development.

Only one federally-listed species, the threatened Preble's, occurs onsite and has the potential to be adversely affected by the project. To mitigate impacts that may result from incidental take, the HCP provides mitigation for the commercial site by protecting and enhancing 2.1 hectares (5.3 acres) of the Running Creek corridor onsite and its associated riparian areas from all future development. Approximately 0.6 hectare (1.41 acres) of temporarily disturbed grassland will be enhanced prior to construction by fencing to eliminate grazing and an additional 1.6 hectares (3.9 acres) will be enhanced native shrub planting and native grass reseeding. Measures will be taken during construction to minimize impact to the habitat, including the use of silt fencing to reduce the amount of sediment from construction activities that reaches the creek. All of the proposed mitigation area is within the boundaries of the Elizabeth Cross Roads property, all of which is included in the drainage basin of Running Creek.

This notice is provided pursuant to section 10(c) of the Act. We will evaluate the permit application, the EA/HCP, and comments submitted therein to determine whether the application meets the requirements of section 10(a) of the Act. If it is determined that those requirements are met, a permit will be issued for the incidental take of the Preble's in conjunction with the construction of Elizabeth Cross Roads Business Park. The final permit decision will be made no sooner than 60 days after the date of this notice.

Dated: Novemeber 14, 2003.
Ralph O. Morgenweck,
Regional Director, Denver, Colorado.

[FR Doc. 03-30957 Filed 12-15-03; 8:45 am]

BILLING CODE 4310-55-P